INTERNATIONAL TRADE COMMISSION

[Investigation No. 337-TA-989 (Enforcement)]

Certain Automated Teller Machines, ATM Modules, Components Thereof, and Products Containing the Same Commission Determination Not To Review an Initial Determination Amending the Complaint and Notice of Enforcement Proceeding To Reflect a Corporate Name Change

AGENCY: U.S. International Trade Commission.

ACTION: Notice.

SUMMARY: Notice is hereby given that the U.S. International Trade Commission (“the Commission”) has determined not to review an initial determination (“ID”) (Order No. 46) amending the complaint and Notice of Enforcement Proceeding to reflect a corporate name change.

FOR FURTHER INFORMATION CONTACT: Ron Traud, Office of the General Counsel, U.S. International Trade Commission, 500 E Street SW, Washington, DC 20436, telephone 202-205-3427. Copies of non-confidential documents filed in connection with this investigation are or will be available for inspection during official business hours (8:45 a.m. to 5:15 p.m.) in the Office of the Secretary, U.S. International Trade Commission, 500 E Street SW, Washington, DC 20436, telephone 202-205-2000. General information concerning the Commission may also be obtained by accessing its internet server at https://www.usitc.gov. The public record for this investigation may be viewed on the Commission's electronic docket (“EDIS”) at https://edis.usitc.gov. Hearing-impaired persons are advised that information on this matter can be obtained by contacting the Commission's TDD terminal, telephone 202-205-1810.

SUPPLEMENTARY INFORMATION: On March 14, 2016, the Commission instituted the original investigation based on a complaint filed by Nautilus Hyosung Inc. (now Hyosung TNS Inc.) of Seoul, Republic of Korea, and Nautilus Hyosung America Inc. of Irving, Texas (collectively, “Nautilus”). 81 FR 13149 (Mar. 14, 2016). Pertinent to this action, the complaint alleged violations of section 337 of the Tariff Act of 1930, as amended, 19 U.S.C. 1337, in the importation into the United States, the sale for importation into the United States, and the sale within the United States after importation of certain automated teller machines, ATM modules, components thereof, and products containing the same by reason of infringement of any of claims 1-3, 6, 8, and 9 of U.S. Patent No. 8,523,235 (“the '235 patent”). Id. The complaint also alleged infringement of claims 1-3 and 5 of U.S. Patent No. 7,891,551; claims 1 and 6 of U.S. Patent No. 7,950,655; and claims 1-4, 6, and 7 of U.S. Patent No. 8,152,165. Those claims were subsequently terminated from the investigation. See Order No. 11 (June 30, 2016), Comm'n Notice of Non-Review (July 27, 2016); Order No. 17 (July 21, 2016), Comm'n Notice of Non-Review (August 16, 2016). The notice of institution of the investigation named Diebold Nixdorf, Incorporated and Diebold Self-Service Systems, both of North Canton, Ohio (collectively, “Diebold”), as respondents. 81 FR 13149; 82 FR 13501 (Mar. 13, 2017). The Office of Unfair Import Investigations (“OUII”) was not named as a party. 81 FR 13149.

On July 14, 2017, the Commission found a section 337 violation as to the '235 patent and issued a limited exclusion order (“LEO”) as well as cease and desist orders (“CDOs”). 82 FR 33513 (July 20, 2017). The LEO prohibits the unlicensed entry of automated teller machines, ATM modules, components thereof, and products containing the same that infringe one or more of claims 1-3, 6, 8, and 9 of the '235 patent that are manufactured by, or on behalf of, or are imported by or on behalf of Diebold Nixdorf, Incorporated, Diebold Self-Service Systems, or any of their affiliated companies, parents, subsidiaries, agents, or other related business entities, or their successors or assigns. Id. The CDOs prohibit, among other things, the importation, sale, and distribution of infringing products by Diebold. Id.

On December 22, 2017, the Commission instituted the subject enforcement proceeding based on a complaint filed by Nautilus, alleging that Diebold violated the July 14, 2017, remedial orders issued in the original investigation and to determine what, if any, enforcement measures are appropriate. 82 FR 60762 (Dec. 22, 2017). Diebold is named as a respondent, and OUII is named as a party. Id.

On June 22, 2018, the presiding administrative law judge issued Order No. 46, the subject ID, which granted an unopposed motion filed by Nautilus to amend the complaint and the Commission's Notice of Enforcement Proceeding to reflect the corporate name change of Nautilus Hyosung Inc. to Hyosung TNS Inc. No petitions for review of the subject ID were filed. The Commission has determined not to review the subject ID.

The authority for the Commission's determination is contained in section 337 of the Tariff Act of 1930, as amended (19 U.S.C. 1337), and in part 210 of the Commission's Rules of Practice and Procedure (19 CFR part 210).

By order of the Commission.
Issued: July 17, 2018.
Lisa Barton,
Secretary to the Commission.

[FR Doc. 2018-15615 Filed 7-20-18; 8:45 am]

BILLING CODE 7020-02-P